DEPARTMENT OF TRANSPORTATION

Federal Highway Administration

Notice of Final Federal Agency Actions on the I-26 Asheville Connector in North Carolina

AGENCY: Federal Highway Administration (FHWA), DOT.

ACTION: Notice of limitation on claims for judicial review of actions by FHWA and other federal agencies.

SUMMARY: This notice announces actions taken by FHWA and the other Federal agencies that are final. The actions relate to the proposed improvements to upgrade the I-26 corridor in Asheville from south of the I-26/I-40/I-240 interchange through the I-240 interchange with US 19-23-74A/Patton Avenue west of the French Broad River so that I-240 can be redesignated as I-26 in Buncombe County, North Carolina. The project is commonly referred to as the I-26 Asheville Connector and is identified as State Transportation Improvement Program Project (STIP) No. I-2513. Those actions grant licenses, permits, and approvals for the project.

DATES: By this notice, FHWA is advising the public of final agency actions subject to 23 U.S.C. 139(l)(1). A claim seeking judicial review of the Federal agency actions on the highway project will be barred unless the claim is filled on or before November 13, 2023. If the Federal law that authorizes judicial review of a claim provides a time period of less than 150 days for filing such claim, then that shorter time period still applies.

FOR FURTHER INFORMATION CONTACT: For FHWA: Mr. Clarence W. Coleman, P. E., Preconstruction and Environment Director, FHWA, 310 New Bern Avenue, Suite 410, Raleigh, North Carolina, 27601-1418; telephone: (919) 747-7014; email: clarence.coleman@dot.gov. FHWA North Carolina Division's regular office hours are 8 a.m. to 5 p.m. (Eastern Time). For North Carolina Department of Transportation (NCDOT): Mr. Derrick Weaver, P. E., Deputy Director of Technical Services, NCDOT, 1536 Mail Service Center, Raleigh, North Carolina 27699-1536; telephone (919) 707-2516, email: dweaver@dot.state.nc.us. NCDOT's regular office hours are 8 a.m. to 5 p.m. (Eastern Time).

SUPPLEMENTARY INFORMATION: Notice is hereby given that FHWA and other Federal agencies have taken final agency actions subject to 23 U.S.C. 139(l)(1) by issuing licenses, permits, and approvals for the following highway project in the State of North Carolina: proposed improvements to upgrade the I-26 corridor in Asheville from south of the I-26/I-40/I-240 interchange through the I-240 interchange with US 19-23-74A/Patton Avenue west of the French Broad River so that I-240 can be redesignated as I-26. The proposed action includes improvements to the I-40 interchanges with Smoky Park Highway, I-26/I-240 and Brevard Road, upgrading I-240 (as well as interchanges at Brevard Road, Amboy Road, and Haywood Road) from the I-26/I-240 interchange with I-40 to the I-240 interchange with Patton Avenue west of the French Broad River, constructing I-26 on new location from the Patton Avenue interchange north across the French Broad River, tying into US 19/23/70 south of Broadway Street, and widening Riverside Drive from Hill Street to Broadway Street. The 7.0-mile project is commonly referred to as the I-26 Asheville Connector and is identified in the Statewide Transportation Improvement Plan (STIP) as STIP No. I-2513. The actions by the Federal Agencies, and the laws under which such actions were taken, are described in the Final Environmental Impact Statement (FEIS) for the project, approved on January 9, 2020, in the FHWA ROD approved on May 26, 2023, and in other documents in the project record. The FEIS, ROD, and other project records are available by contacting the FHWA or the NCDOT at the addresses provided above. The FEIS and ROD can be viewed and downloaded from the project website at https://www.ncdot.gov/projects/asheville-i-26-connector/Pages/default.aspx, or obtained from any contact listed above.

This notice applies to all Federal Agency decisions that are final as of the issuance date of this notice and all laws under which such actions were taken, including but not limited to:

1. General: National Environmental Policy Act (NEPA) [42 U.S.C. 4321 et seq.]; Federal-Aid Highway Act [23 U.S.C. 109].

2. Air: Clean Air Act [42 U.S.C. 7401 et seq.].

3. Land: Section 4(f) of the Department of Transportation Act of 1966 [49 U.S.C. 303; 23 U.S.C. 138]; Landscaping and Scenic Enhancement (Wildflowers) [23 U.S.C. 319].

4. Wildlife: Endangered Species Act [16 U.S.C. 1531-1544 and Section 1536], Marine Mammal Protection Act [16 U.S.C. 1361], Anadromous Fish Conservation Act [16 U.S.C. 757(a) et seq.], Fish and Wildlife Coordination Act [16 U.S.C. 661 et seq.], Migratory Bird Treaty Act [16 U.S.C. 703-712], Magnuson-Stevenson Fishery Conservation and Management Act of 1976 [16 U.S.C. 1801 et seq.].

5. Historic and Cultural Resources: Section 106 of the National Historic Preservation Act of 1966 [54 U.S.C. 306108]; Archeological Resources Protection Act of 1977 [16 U.S.C. 470(aa) at seq.]; Archeological and Historic Preservation Act [54 U.S.C. 312501-312508]; Native American Grave Protection and Repatriation Act (NAGPRA) [25 U.S.C. 3001-3013].

6. Social and Economic: Title VI of the Civil Rights Act of 1964 [42 U.S.C. 2000(d) et seq.]; American Indian Religious Freedom Act [42 U.S.C. 1996]; Farmland Protection Policy Act (FPPA) [7 U.S.C. 4201-4209].

7. Wetlands and Water Resources: Clean Water Act (Section 404, Section 401, Section 319) [33 U.S.C. 1251 et seq.]; Coastal Barrier Resources Act [16 U.S.C. 3501-3510]; Coastal Zone Management Act [16 U.S.C. 1451 et seq.]; Land and Water Conservation Fund (LWCF) [54 U.S.C. 200301 et seq.]; Safe Drinking Water Act (SDWA) [42 U.S.C. 300(f) et seq.]; Rivers and Harbors Act of 1899 [33 U.S.C. 401 et seq.]; Wild and Scenic Rivers Act [16 U.S.C. 1271-1287]; Emergency Wetlands Resources Act [16 U.S.C. 3921, 3931]; Wetlands Mitigation [23 U.S.C. 119(g) and 133(b)(14)]; Flood Disaster Protection Act [42 U.S.C. 4001 et seq.].

8. Hazardous Materials: Comprehensive Environmental Response, Compensation, and Liability Act (CERCLA) [42 U.S.C. 9601 et seq.]; Superfund Amendments and Reauthorization Act of 1986 (SARA) [42 U.S.C. 11001 et seq.]; Resource Conservation and Recovery Act (RCRA) [42 U.S.C. 6901 et seq.].

9. Executive Orders: E.O. 11990 Protection of Wetlands; E.O. 11988 Floodplain Management; E.O. 12898, Federal Actions to Address Environmental Justice in Minority Populations and Low-Income Populations; E.O. 13166, Improving Access to Services for Persons with Limited English Proficiency; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing E.O. 12372 regarding intergovernmental consultation on Federal programs and activities apply to this program.)

Authority: 23 U.S.C. 139(l)(1).

Clarence W. Coleman,
Preconstruction and Environment Director, Raleigh, North Carolina.

[FR Doc. 2023-12674 Filed 6-13-23; 8:45 am]

BILLING CODE 4910-RY-P